DEPARTMENT OF JUSTICE

Antitrust Division

Notice Pursuant to the National Cooperative Research and Production Act of 1993—Global Climate and Energy Project

Notice is hereby given that, on March 12, 2003, pursuant to Section 6(a) of the National Cooperative Research and Production Act of 1993, 15 U.S.C. 4301 et seq. (“the Act”), Global Climate and Energy Project has filed written notifications simultaneously with the Attorney General and the Federal Trade Commission disclosing (1) the identifies of the parties and (2) the nature and objectives of the venture. The notifications were filed for the purpose of invoking the Act's provisions limiting the recovery of antitrust plaintiffs to actual damages under specified circumstances. Pursuant to section 6(b) of the Act, the identities of the parties are Leland Stanford Junior University, Stanford, CA; Exxon Mobil Corporation, Irving, TX; General Electric Company, Fairfield, CT; and Schlumberger Technology Corporation, Sugarland, TX. The nature and objectives of the venture are to conduct long-term pioneering research to identify options for commercially viable, technological systems for energy supply and use with substantially reduced net greenhouse emissions; to identify presently existing barriers to commercializing those options (barriers such as cost, performance, safety, regulation, and consumer acceptance); to identify potential solutions to those barriers; to conduct pre-commercial research to explore those options, barriers, and potential solutions; and to publicize such options, barriers, solutions, and research, including fundamental science and pre-commercial research in the following topics: low greenhouse gas electric power production, storage, and distribution, advanced transportation techniques; production, distribution, and use of hydrogen; production, distribution and use of biomass fuels; advanced nuclear technologies; renewable energy supplies; carbon sinks, carbon dioxide separation and storage; coal utilization; enabling infrastructure; materials, and combustion and systems science; and geo-engineering.

Constance K. Robinson,
Director of Operations, Antitrust Division.

[FR Doc. 03-8268 Filed 4-3-03; 8:45 am]

BILLING CODE 4410-11-M